ENVIRONMENTAL PROTECTION AGENCY

[FRL-8175-1]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held June 20 and 21, 2006 at RESOLVE, Washington, DC. The CHPAC was created to advise the Environmental Protection Agency on science, regulations, and other issues relating to children's environmental health.

DATES: The Voluntary Children's Chemical Evaluation Program (VCCEP) task group will meet Tuesday June 20, 2006. The Plenary session will take place Wednesday June 21, 2006.

ADDRESSES: RESOLVE, 1255 23rd Street, NW., Suite 275, Washington, DC.

FOR FURTHER INFORMATION CONTACT: Contact Carolyn Hubbard, Office of Children's Health Protection, USEPA, MC 1107A, 1200 Pennsylvania Avenue, NW., Washington, DC 20460, (202) 564-2189, hubbard.carolyn@epa.gov.

SUPPLEMENTARY INFORMATION: The meetings of the CHPAC are open to the public. The VCCEP task group will meet Tuesday June 20, 2006 2 p.m to 5 p.m. The plenary CHPAC will meet on Wednesday June 21, 2006 8:30 a.m. to 5:30 p.m., with a public comment period at 11:45 a.m.

The plenary session will open with introductions and a review of the agenda and objectives for the meeting. Agenda items include a presentation on a best practices document on human subjects testing by EPA's National Exposure Research Lab (NERL), discussion and agreement on the VCCEP comment letter, and a presentation on approaches to protecting children from adverse health effects of chemicals with a focus on body burden, including what changes in public policy might be effective, what the right questions are to ask, and what public and private actions would be most useful. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: May 22, 2006.
Carolyn Hubbard,
Designated Federal Official.

Children's Health Protection Advisory Committee

Resolve 1255 23rd Street NW., Suite 275, Washington, DC 20037, June 20-21, 2006

Draft Agenda

Tuesday June 20, 2006

2-5 p.m. Voluntary Children's Chemical Evaluation Program (VCCEP) Task Group Meeting

Wednesday, June 21, 2006

8:30 a.m. Welcome, Introductions, Review Meeting Agenda.

8:45 a.m. Review of CHPAC Operating Procedures.

9 a.m. Highlights of Recent OCHP Activities.

9:30 a.m. Best Practices for NERL Observational Human Research Studies.

10:30 a.m. Break.

10:45 a.m. VCCEP Comment Letter.

11:45 a.m. Public Comment.

12:15 p.m. Lunch.

1:45 p.m. VCCEP Comment Letter (continued).

2:45 p.m. Break.

3 p.m. Reducing Body Burden to Protect America's Children.

5 p.m. VCCEP Comment Letter (if needed).

5:30 p.m. Adjourn.

[FR Doc. E6-8301 Filed 5-26-06; 8:45 am]

BILLING CODE 6560-50-P